DEPARTMENT OF THE INTERIOR

Bureau of Land Management

[AZ-956-09-1420-00]

Arizona State Office; Notice of Filing of Plats of Survey

April 16, 2001.

1. The plats of survey of the following described land were officially filed in the Arizona State Office, Phoenix, Arizona on the dates indicated:

A plat representing the survey of the Sixth Guide Meridian East, (west boundary), the east and north boundaries, and the subdivisional lines, Township 35 North, Range 25 East, of the Gila and Salt River Meridian, Arizona, accepted January 30, 2001 and officially filed February 9, 2001.

This plat was prepared at the request of the Bureau of Indian Affairs, Navajo Regional Office.

A plat representing the survey of the east and north boundaries, and the subdivisional lines, Township 35 North, Range 26 East, of the Gila and Salt River Meridian, Arizona, accepted February 20, 2001 and officially filed March 2, 2001.

This plat was prepared at the request of the Bureau of Indian Affairs, Navajo Regional Office.

These plats will immediately become the basic records for describing the land for all authorized purposes. These plats have been placed in the open files and are available to the public for information only.

2. All inquiries relating to these lands should be sent to the Arizona State Office, Bureau of Land Management, 222 N. Central Avenue, P.O. Box 1552, Phoenix, Arizona 85001-1552.

Kenny D. Ravnikar,
Chief Cadastral Surveyor of Arizona.

[FR Doc. 01-10479 Filed 4-26-01; 8:45 am]

BILLING CODE 4310-32-P